DEPARTMENT OF DEFENSE

Department of the Navy

[Docket ID USN-2012-0004]

Privacy Act of 1974; System of Records

AGENCY: Department of the Navy, DoD.

ACTION: Notice to add a system of records.

SUMMARY: The Department of the Navy proposes to add a system of records in its inventory of record systems subject to the Privacy Act of 1974 (5 U.S.C. 552a), as amended.

DATES: This proposed action will be effective on April 6, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 1, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 2, 2012.
Aaron Siegel,
Alternate OSD Federal Register Liaison Officer, Department of Defense.

NM07251-1

System name:

Department of the Navy Mass Transportation Benefit Program.

System location:

Organizational elements of the Department of the Navy. Official mailing addresses are published in the Standard Navy Distribution List (SNDL) that is available as an appendix to the Navy's compilation of systems of records notices.

Categories of individuals covered by the system:

Department of Navy (DON) military and civilian personnel applying for and/or obtaining a mass transportation subsidy for commuting to and from work.

Categories of records in the system:

Name, last four of Social Security Number (SSN), DoD ID Number, point-to-point commuting expenses, commuting distance, type of mass transit used, home address, organizational affiliation of the individual, funding appropriation for benefit, office work number, email address, duty/work address, transit authority card number, and usage from benefit provider.

Authority for maintenance of the system:

5 U.S.C. 301, Departmental Regulations; 5 U.S.C. 7905, Programs to encourage commuting by means other than single-occupancy motor vehicles; DoD Instruction 1000.27, Mass Transportation Benefit Program (MTBP); E.O. 12191, Federal facility ridesharing program; E.O. 13150, Federal Workforce Transportation; and E.O. 9397 (SSN), as amended.

Purpose(s):

To manage the DON Mass Transportation Benefit Program for DON military and civilian personnel applying for and in receipt of mass transit subsidies.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the benefit provider for purposes of administering the DON Mass Transportation Benefit Program and/or verifying the eligibility of individuals to receive a fare subsidy pursuant to the transportation benefit program operated by the DON.

The DoD `Blanket Routine Uses' set forth at the beginning of the Department of the Navy's compilation of systems of records notices apply to this system of records.

Policies and practices for storing, retrieving, accessing, retaining, and disposing of records in the system:

Storage:

Paper records in file folders and electronic storage media.

Retrievability:

Individual's name and last four of Social Security Number (SSN).

Safeguards:

Records are stored in a secured area accessible only to authorized personnel. Records are accessed by the custodian of the record system and by persons responsible for using or servicing the system, who are properly screened and have a need-to-know. Computer hardware is located in controlled areas with access limited to authorized personnel.

Retention and disposal:

Destroy applications of employees no longer in the program, superseded applications, certification logs, vouchers, spreadsheets and other forms used to document the disbursement of subsidies when six (6) years and three (3) months old.

System manager(s) and address:

Deputy Assistant Secretary of the Navy for Financial Management and Comptroller, Office of Financial Operations, 720 Kennon Street SE., Bldg. 36, Room 115, Washington Navy Yard, DC 20374-5025.

Notification procedure:

Individuals seeking to determine whether information about themselves is contained in this system should address written inquiries to the Deputy Assistant Secretary of the Navy for Financial Management and Comptroller, Office of Financial Operations, 720 Kennon Street SE., Bldg 36, Room 115, Washington Navy Yard, DC 20374-5025.

Written requests for information should contain the full name of the individual and last four of Social Security Number (SSN).

The system manager may require an original signature or a notarized signature as a means of proving the identity of the individual requesting access to the records.

Record access procedures:

Individuals seeking access to information about themselves contained in this system should address written inquiries to the Deputy Assistant Secretary of the Navy for Financial Management and Comptroller, Office of Financial Operations, 720 Kennon Street SE., Bldg 36, Room 115, Washington Navy Yard, DC 20374-5025.

Written requests for information should contain the full name of the individual, last four of Social Security Number (SSN), and include the name and number of this system of records notice and be signed by the individual.

The system manager may require an original signature or a notarized signature as a means of proving the identity of the individual requesting access to the records.

Contesting record procedures:

The Department of Navy's rules for accessing records, for contesting contents and appealing initial agency determinations are published in Secretary of the Navy Instruction 5211.5; 32 CFR part 701; or may be obtained from the system manager.

Record source categories:

From the individual.

Exemptions claimed for the system:

None.

[FR Doc. 2012-5488 Filed 3-6-12; 8:45 am]

BILLING CODE 5001-06-P